DEPARTMENT OF COMMERCE

International Trade Administration

(A-583-008)

Certain Circular Welded Carbon Steel Pipes and Tubes from Taiwan: Initiation of Antidumping Duty Changed Circumstance Review

AGENCY: Import Administration, International Trade Administration, Department of Commerce.

SUMMARY: The Department of Commerce (the Department) has received information sufficient to warrant initiation of a changed circumstance review of the antidumping order of certain circular welded carbon steel pipes and tubes from Taiwan. See Certain Circular Welded Carbon Steel Pipes and Tubes From Taiwan: Antidumping Duty Order, 49 FR 19369 (May 7, 1984). In response to this request made by Yieh Phui Enterprise Co., Ltd. (Yieh Phui), the Department is initiating a changed circumstance review to determine whether Yieh Phui is the successor-in-interest to Yieh Hsing Enterprise Co, Ltd (Yieh Hsing).

EFFECTIVE DATE: April 4, 2005.

FOR FURTHER INFORMATION CONTACT: Angela Strom or Robert James at (202) 482-2704 or (202) 482-0649, respectively; AD/CVD Operations, Office 7, Import Administration, International Trade Administration, Department of Commerce, 14th Street and Constitution Ave. NW, Washington DC 20230.

SUPPLEMENTARY INFORMATION:

Background

In the context of the 2002-2003 administrative review of circular welded carbon steel pipe and tubes from Taiwan, the respondent,Yieh Hsing, had requested the Department to initiate a changed circumstance review to determine whether Yieh Phui is the successor-in-interest to Yieh Hsing. See Yieh Hsing Section A Questionnaire response dated September 11, 2003 (which will be made available upon publication of this notice in the Central Records Unit (CRU) at the Department of Commerce). At that time, the Department did not find the information in the request sufficient to warrant initiation of a changed circumstance review. See Letter from the Department to Yieh Hsing dated November 14, 2003 (also available upon the publication of this notice in CRU). On September 30, 2004, the Department published the final results of the administrative review and assigned a cash deposit rate of 1.61 percent to Yieh Hsing for sales of subject merchandise to the United States. See Circular Welded Carbon Steel Pipes and Tubes From Taiwan: Final Results of Antidumping Duty Administrative Review, 69 FR 58390 (September 30, 2004).

On February 15, 2005, Yieh Phui requested the Department to conduct an expedited changed circumstances review of the order on certain circular welded carbon steel pipes and tubes from Taiwan with respect to Yieh Phui. In the request, Yieh Phui included information relating to current and former operations of Yieh Phui and Yieh Hsing and provided documentation relating to Yieh Phui's acquisition of Yieh Hsing's steel pipe production facilities. Accordingly, Yieh Phui asked the Department to find Yieh Phui as the successor-in-interest to Yieh Hsing and to accord Yieh Phui the same antidumping duty treatment as its predecessor with respect to subject merchandise.

Scope of the Order

Imports covered by the order are shipments of certain circular welded carbon steel pipes and tubes. The Department defines such merchandise as welded carbon steel pipes and tubes of circular cross section, with walls not thinner than 0.065 inch and 0.375 inch or more but not over 4.5 inches in outside diameter. These products are commonly referred to in the industry as “standard pipe” and are produced to various American Society for Testing Materials specifications, most notably A-53, A-120 and A-135. Standard pipe is currently classified under Harmonized Tariff Schedule of the United States (HTSUS) item subheadings 7306.30.5025, 7306.30.5032, 7306.30.5040, and 7306.30.5055. Although the HTSUS subheadings are provided for convenience and customs purposes, the written description of the merchandise under the order is dispositive.

Initiation of Changed Circumstance Review

Pursuant to section 751(b)(1) of the Tariff Act of 1930, as amended, the Department will conduct a changed circumstance review upon request from an interested party or receipt of information concerning an antidumping duty order, which shows changed circumstances exist to warrant a review of the order. Pursuant to Yieh Phui's request dated February 15, 2005, the Department is initiating a changed circumstance review to determine whether Yieh Phui is the successor-in-interest to Yieh Hsing for purposes of determining antidumping liability with respect to imports of subject merchandise from Taiwan produced and exported by Yieh Phui.

In making a successor-in-interest determination, the Department examines several factors, including, but not limited to, changes in: 1) management; 2) production facilities; 3) supplier relationships; and 4) customer base. See Notice of Final Results of Changed Circumstances Review: Polychloroprene Rubber from Japan, 69 FR 67890 (November 22, 2004) citing, Brass Sheet and Strip from Canada: Notice of Final Results of Antidumping Duty Administrative Review, 57 FR 20460 (May 13, 1992) (Brass Sheet). While no single factor or a combination of these factors will necessarily provide a dispositive indication, the Department will generally consider the new company to be the successor to the previous company if its resulting operation is not materially dissimilar to that of its predecessor. See e.g., Industrial Phosphoric Acid from Israel: Final Results of Changed Circumstances Review, 59 FR 6944 (February 14, 1994), Canadian Brass, and Certain Preserved Mushrooms from India: Final Results of Changed-Circumstances Review, 68 FR 6884 (February 11, 2003). If evidence demonstrates that, with respect to the production and sale of the subject merchandise, the new company operates as the same entity as the former company, the Department will treat the successor company the same as the predecessor for antidumping purposes. See Fresh and Chilled Atlantic Salmon from Norway: Final Results of Changed Circumstance Antidumping Administrative Review, 64 FR 9979 (March 1, 1999).

While Yieh Phui claims it has been operating the steel pipe operations as the same entity as Yieh Hsing, the Department determines that Yieh Phui has not provided prima facie evidence that Yieh Phui is the successor-in-interest to Yieh Hsing. Because we find deficiencies in the information provided by Yieh Phui, we will collect additional information in the context of this review.

Section 351.211 (c)(3)(ii) of the Department's regulations permits the Department to combine the notice of initiation of a changed circumstance review and the notice of preliminary results in a single notice if the Department concludes that expedited action is warranted. As noted, although the Department finds the information submitted by Yieh Phui sufficient to warrant the initiation of a changed circumstance review, we do not find the information sufficient to make a preliminary finding. Because the record supporting Yieh Phui's claim is deficient, we find that expedited action is impracticable. Thus, the Department is not issuing the preliminary results of this antidumping duty changed circumstances review at this time.

The Department will publish in the Federal Register a notice of preliminary results of antidumping duty changed circumstance review, in accordance with 19 CFR 351.221(b)(4) and 19 CFR 351.221 (c)(3)(i). This notice will set forth the factual and legal conclusions upon which our preliminary results are based and a description of any action proposed based on those results. Pursuant to 19 CFR 351.221(b)(4)(ii), interested parties will have an opportunity to comment on the preliminary results of this review. In accordance with 19 CFR 351.216 (e), the Department will issue the final results of its antidumping duty changed circumstance review not later than 270 days after the date on which the review is initiated.

During the course of this antidumping duty changed circumstance review, we will not change the cash deposit requirements for the merchandise subject to review. The cash deposit will only be altered, if warranted, pursuant to the final results of this review.

This notice of initiation is in accordance with sections 751(b)(1) of the Tariff Act and 19 CFR 351.221(b)(1).

Dated: March 24, 2005.
Joseph A. Spetrini,
Acting Assistant Secretary for Import Administration.

[FR Doc. E5-1489 Filed 4-1-05; 8:45 am]

BILLING CODE 3510-DS-S